LEGAL SERVICES CORPORATION

Request for Comments—Financial Eligibility Screening and Online Intake

AGENCY: Legal Services Corporation.

ACTION: Notice; request for comments.

SUMMARY: The Legal Services Corporation seeks public comment on a draft program letter discussing minimum screening requirements for LSC recipients to apply when determining financial eligibility of applicants based on information collected through online systems.

DATES: Written comments will be accepted until April 25, 2012.

ADDRESSES: Written comments may be submitted by mail, fax or email to Mark Freedman, Senior Assistant General Counsel, Legal Services Corporation, 3333 K St. NW., Washington, DC 20007; 202-295-1623 (phone); 202-337-6519 (fax); mfreedman@lsc.gov.

FOR FURTHER INFORMATION CONTACT: Mark Freedman, Senior Assistant General Counsel, Legal Services Corporation, 3333 K St. NW., Washington, DC 20007; 202-295-1623 (phone); 202-337-6519 (fax); mfreedman@lsc.gov.

SUPPLEMENTARY INFORMATION: The Legal Services Corporation (“LSC” or “Corporation”) was established by the United States Congress “for the purpose of providing financial support for legal assistance in noncriminal matters or proceedings to persons financially unable to afford such assistance.” 42 U.S.C. 2996b(a). LSC performs this function primarily through providing federal funding to civil legal aid programs providing legal services to low-income persons throughout the United States and its possessions and territories in geographic areas determined by LSC. Each LSC recipient must screen all applicants for LSC funded legal assistance to determine if they meet the recipient's financial eligibility requirements, which themselves must comply with the LSC financial eligibility requirements set forth at 45 CFR part 1611.

Over the last several years, LSC has seen a marked increase in the number of LSC grant recipients implementing online systems as part of their client-eligibility screening systems to improve efficiency in their intake processes. LSC has received a corresponding increase in compliance-related inquiries pertaining to these systems. LSC has prepared this draft program letter to assist LSC recipients in complying with eligibility screening requirements for all methods of intake, including online intake systems. It reflects LSC's obligation to ensure compliance with statutory and regulatory requirements governing the use of LSC funds, as well as LSC's recognition of the realities of practices in the field.

The draft program letter can be found in the “Matters for Comment” section of LSC's Web site at: http://www.lsc.gov/about/matters-comment.

LSC recognizes the importance of input from the public and from LSC recipients. It is LSC's intention that the Program Letter balance recognition of the advancements in technology with LSC's obligation to ensure compliance with the statutory and regulatory requirements governing the use of LSC funds. LSC encourages all interested parties and program staff whose work involves screening applicants to review the draft Program Letter and provide input to LSC. Interested parties may submit comments to LSC within thirty (30) days of the date of publication of this notice.

Dated: March 20, 2012.
Victor M. Fortuno,
Vice President & General Counsel.

[FR Doc. 2012-7117 Filed 3-23-12; 8:45 am]

BILLING CODE 7050-01-P